DEPARTMENT OF COMMERCE

Foreign-Trade Zones Board

[Docket 16-2002]

Foreign-Trade Zone 204, Tri-Cities Area, TN/VA; Expansion of Manufacturing Authority—Subzone 204A; Siemens Energy & Automation, Inc. (Industrial Automation Products)

An application has been submitted to the Foreign-Trade Zones Board (the Board) by the Tri-Cities Airport Commission, grantee of FTZ 204, requesting on behalf of Siemens Energy & Automation, Inc. (Siemens), to expand the scope of manufacturing authority under zone procedures within Subzone 204A, at the Siemens plant in Carter County, Tennessee. The application was submitted pursuant to the Foreign-Trade Zones Act, as amended (19 U.S.C. 81a-81u), and the regulations of the Board (15 CFR part 400). It was formally filed on March 4, 2002.

Subzone 204A was approved by the Board in 1995 at a 104-acre site on Bill Garland Road in Carter County, Tennessee. Authority was granted for the manufacture of robotics, programmable logic controllers, and other industrial automation products (Board Order 756, 60 FR 36105, 7/13/95).

Siemens is now proposing to expand the scope of manufacturing activity conducted under zone procedures at Subzone 204A to include additional finished products (e.g., automotive, media, and traffic technologies) and components. The finished products would have duty rates ranging from duty-free to 8.5% ad valorem. Foreign-sourced materials under the proposed expanded scope may include the following items: copper wire; electric screwdrivers; ground clips/pins; threaded fasteners; transmitters; floating instruments parts; flow meters; ultraviolet lamps; electronic dispensers; automotive technology; media technology; and traffic technology for road, railroad, or airport. Duty rates on these components range from duty-free to 8.5% ad valorem.

Expanded subzone authority would exempt Siemens from Customs duty payments on the aforementioned foreign components when used in export production. On its domestic sales, Siemens would be able to choose the lower duty rate that applies to the finished products for the foreign components, when applicable.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is May 13, 2002. Rebuttal comments in response to material submitted during the foregoing period may be submitted during the subsequent 15-day period to May 27, 2002. A copy of the application and accompanying exhibits will be available for public inspection at the Office of the Foreign-Trade Zones Board's Executive Secretary at address Number 1 listed above, and at Tri-City Regional Airport, Room 306, State Highway 75, Blountville, TN 37617.

Dated: March 4, 2002.
Dennis Puccinelli,
Executive Secretary.

[FR Doc. 02-5887 Filed 3-11-02; 8:45 am]

BILLING CODE 3510-DS-P